DEPARTMENT OF AGRICULTURE

Forest Service

Clearwater National Forest; Idaho; Upper Lochsa Land Exchange EIS

AGENCY: Forest Service, USDA.

ACTION: Notice of Intent to Prepare an Environmental Impact Statement.

SUMMARY: In April 2006 the Forest Service received a proposal from Western Pacific Timber LLC (WPT) in which a major exchange of land was proposed. The WPT proposal included approximately 40,000 acres of checkerboard land intermingled with the Clearwater National Forest near Powell, Idaho. These checkerboard lands are of interest to the Forest Service because they encompass the headwaters of the Lochsa River and hold outstanding values for many fish and wildlife species. The checkerboard lands also hold significant cultural resources including the Lewis and Clark National Historic Trail and Nez Perce Tribe treaty area.

In September 2008 the Clearwater National Forest completed a feasibility analysis of the proposed exchange as a first level screen to review forest management plans, identify public benefit, identify availability of resources to complete the proposed exchange, identify title and property descriptions and identify potential support and opposition. The outcome of the feasibility analysis was a recommendation to enter into an Agreement to Initiate a land exchange with WPT. The agreement, signed by both parties in September, specifies the roles and responsibilities of each party involved in the exchange.

In the proposed land exchange the Forest Service would acquire approximately 39,371 acres of land in the upper Lochsa River drainage in exchange for up to approximately 28,212 acres of National Forest System (NFS) land. It is anticipated that this is more than adequate federal acreage to complete an equal value land exchange. The NFS lands are located on the Clearwater, Nez Perce and Idaho Panhandle National Forests.

DATES: Comments concerning the scope of the analysis should be received by January 5, 2009. The draft environmental impact statement is expected Summer 2009, and the final environmental impact statement is expected Spring 2010.

ADDRESSES: Send written comments to: Tom Reilly, Forest Supervisor, Clearwater National Forest, c/o Teresa Trulock, Project Manager, 903 3rd Street, Kamiah, Idaho 83536. Electronic comments may be sent to comments-northem-clearwater@fs.fed.us with the subject line “Upper Lochsa Land Exchange”. Acceptable formats are MS Word or RTF.

FOR FURTHER INFORMATION CONTACT: Teresa Trulock, Project Manager at the Clearwater National Forest (208) 935-4256.

SUPPLEMENTARY INFORMATION:

Purpose and Need for Action

The purpose of this proposed land exchange is to consolidate land ownership in the upper Lochsa River drainage to provide more efficient and effective resource management. This purpose can be achieved by exchanging parcels of federal lands for WPT lands. The current ownership pattern has a considerable effect on how the Forest Service manages NFS lands in the upper Lochsa River drainage. Over the years, differing management practices on the private lands have influenced resource management decision on the NFS lands. The mixed ownership pattern also reduces the ability to apply ecosystem management principles across the landscape. More effective conservation and management of natural resources can be achieved by consolidating these lands and managing the ecosystem as a whole. For example, current ownership results in an inability to use fuel and topography to engage fires on a cost effective basis. Also more efficiency can be gained by reducing administrative costs associated with boundary maintenance and cost share roads.

In general the land exchange provides the opportunity for the Forest Service to acquire checkerboard lands which encompass the headwaters of the Lochsa River, and hold outstanding values for aquatic and terrestrial species along with significant cultural resources.

Proposed Action

The Forest Service proposes to exchange up to 28,212 acres, more or less, of NFS land for approximately 39,371 acres of WPT land. The lands included in this proposed exchange are located within Benewah, Clearwater, Latah, Shoshone, Bormer, Kootenai and Idaho Counties.

The proposed federal lands are 46 scattered tracts of land ranging in size from the 6.35 acre FS district compound in Elk City, Idaho to a contiguous tract approximately 7,680 acres northeast of Elk City. Forty-three of the NFS tracts are relatively small (from 6.35 to about 1,300 acres) and for the most part are timbered. The three remaining NFS tracts are relatively large. One large block of land near Elk River on the Clearwater NF is about 6,000 acres. This is timbered land intermingled with private timber lands and has one common border with other NFS lands. Two large blocks on the Nez Perce NF near Elk City are approximately 3,200 and 7,680 acres, are timbered and are contiguous to other NFS lands except on one side which borders private timberlands or BLM. Federal lands proposed for trade are characterized by intermingled ownerships, irregular boundaries, and inholdings.

The WPT lands proposed for exchange are checkerboard lands intermingled with Clearwater National Forest lands in the upper Lochsa River drainage. For the past 50 years, WPT lands were managed primarily for timber production. For the most part these lands currently meet State Best Management Practices for timber production lands. The proposed action would authorize the transfer of land ownership and management authority, including the mineral estate, between the two parties. The proposed action would not authorize any site-specific management activities by either party.

Possible Alternatives

At a minimum, the following alternatives must be considered and evaluated appropriately. Proposed Action—Described above. No Action—Under this alternative the proposed land exchange between the Forest Service and WPT would not occur. Purchase Alternative—Land exchange evaluations shall consider a purchase alternative in the environmental analysis and document the non-Federal party's position on the United States' direct purchase of all or portion of the proposed exchange parcels documented in the administrative record. Deed Restriction Alternative—An alternative that considers requiring specific deed restrictions on federal lands being conveyed to comply with legal, regulatory requirements, executive orders, policy, and/or to meet respective Forest Plan management requirements.

Responsible Official

Thomas K. Reilly, Forest Supervisor, Clearwater National Forest, 12730 Highway 12, Orofino, Idaho 83544.

Nature of Decision To Be Made

Authorization to permit land exchange between the Forest Service and Western Pacific Timber of up to 28,145 acres of NFS land for approximately 40,023 acres of Western Pacific Timber land. In the decision, the Forest Supervisor will answer the following questions based on the environmental analysis: (1) Whether the proposed action will proceed as proposed, as modified by an alternative, or not at all? (2) Whether the project requires any Forest Plan amendments. This decision will be documented in the Record of Decision for the Upper Lochsa Land Exchange Environmental Impact Statement (EIS). If the decision that is made would require an amendment to any of the Forest Plans, the analysis and documentation for the amendment will be included. The decision will be subject to appeal in accordance with 36 CFR part 215.

Scoping Process

The Forest Service is seeking information, comments, and assistance from individuals, organizations and federal, state, and local agencies that may be interested in or affected by the proposed action. The Clearwater National Forest has scheduled the preparation of an EIS to disclose the environmental effects of the proposed project and determine whether the proposed land exchange meets Forest Plan objectives. Public comments will be considered and disclosed in the environmental analysis documented in the Upper Lochsa Land Exchange EIS. The EIS will evaluate the proposed action, no action, purchase and deed restriction alternatives along with other alternatives that may be developed during this process.

Public involvement was initiated November 7, 2008 by sending a scoping notice to parties on a mailing list prepared by the Clearwater National Forest. Public participation is being solicited by notifying in person and/or by mail known interested and affected parties. Announcements in area newspapers were used to give local notice of three public meetings held in Elk River, Moscow and Elk City, Idaho in late November 2008. A legal notice in the Lewiston Tribune and Spokesman Review, the newspapers of record for the Clearwater, Nez Perce and Idaho Panhandle National Forests, are being used to give the public general notice of the scoping period. The first formal opportunity to comment is to respond to the scoping notice or this Notice of Intent, which initiate the scoping process (40 CFR 1501.7). Scoping includes: (1) Identifying potential issues, (2) narrowing the potential issues and identifying significant issues from those that have been covered by prior environmental review, (3) exploring alternatives in addition to no action, and (4) identifying potential environmental effects of the proposed action and alternatives. Comments are invited on the proposed action, possible alternatives, and issues that should be considered. The Forest Service is asking for public comment by January 5, 2009. If you decide to comment on the Upper Lochsa Land Exchange proposal, please include the following: (1) Your name, address, and organization represented, if any; (2) title of the project for which comments are being submitted; and (3) specific facts and supporting reasons for the Responsible Official to consider. Those who comment will be put on the project mailing list.

Preliminary Issues

The Forest Service has identified the following potential issues. No determination has been made as to which issues will be examined in detail in the environmental analysis. Your input will help identify additional issues related to the proposed action that may not be listed here. Impacts to Idaho County tax base from increased federal lands Treaty Rights.

• The loss of the Elk City Forest Service compound and associated impacts to the Nez Perce NF and the community of Elk City.

• Cultural Resources.

• Threatened and Endangered Species.

• Public Access.

• Timber Management.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: November 26, 2008.
Thomas K. Reilly,
Forest Supervisor, Clearwater National Forest.

[FR Doc. E8-28670 Filed 12-3-08; 8:45 am]

BILLING CODE 3410-11-M